DEPARTMENT OF ENERGY

Federal Energy Regulatory Commission

[Docket No. EG02-136.000, et al.]

Waterside Power, L.L.C., et al.; Electric Rate and Corporate Regulation Filings

May 31, 2002.

The following filings have been made with the Commission. The filings are listed in ascending order within each docket classification.

1. Waterside Power, L.L.C.

[Docket No. EG02-136-000]

Take notice that on May 28, 2002, Waterside Power, L.L.C. filed with the Federal Energy Regulatory Commission an application for determination of exempt wholesale generator status pursuant to section 32(a)(1) of the Public Utility Holding Company Act of 1935. The applicant is a limited liability company organized under the laws of the State of Delaware that is engaged directly and exclusively in developing, owning, and operating a 69.25 MW (net) gas turbine electric generating facility, which will be an eligible facility.

Comment Date: June 21, 2002.

2. Deseret Generation & Transmission Co-operative, Inc.

[Docket No. ER99-2506-001]

Take notice that on May 28, 2002, Deseret Generation & Transmission Co-operative, Inc. (Deseret) tendered for filing a triennial updated market analysis as required by the Federal Energy Regulatory Commission in approval of Deseret's market-based rate schedule. Copies of this filing were served upon Deseret's member cooperatives.

Comment Date: June 18, 2002.

3. Minnesota Power

[Docket No. ER01-2636-001]

Take notice that on May 28, 2002, Minnesota Power tendered for filing its triennial market power update.

Comment Date: June 18, 2002.

4. Entergy Arkansas, Inc.

[Docket No. ER02-1151-002]

Take notice that on May 28, 2002, Entergy Services, Inc., on behalf of Entergy Arkansas, Inc., tendered for filing with the Federal Energy Regulatory Commission (Commission), a compliance Interconnection and Operating Agreement with Plum Point Energy Associates, LLC, in response to the Commission's April 25, 2002, order in Entergy Arkansas, Inc., 99 FERC ¶ 61,097 (2002).

Comment Date: June 18, 2002.

5. PPL University Park, LLC

[Docket No. ER02-1327-001]

Take notice that on May 28, 2002, PPL University Park, LLC filed a compliance filing pursuant to the Federal Energy Regulatory Commission's Letter Order issued May 9, 2002 in this docket.

PPL University Park states that a copy of this filing has been served upon each person designated on the official service list compiled by the Secretary in this proceeding.

Comment Date: June 18, 2002.

6. Wisconsin Electric Power Company

[Docket No. ER02-1886-000]

Take notice that on May 22, 2002, Wisconsin Electric Power Company (Wisconsin Electric) tendered for filing changes to Exhibit B of the Second Revised Power Sales Agreement, Second Revised Rate Schedule FERC No. 90, between Wisconsin Electric and Wisconsin Public Power, Inc.

Wisconsin Electric respectfully requests an effective date of February 1, 2002.

Comment Date: June 12, 2002.

7. Wisconsin Electric Power Company

[Docket No. ER02-1887-000]

Take notice that on May 22, 2002, Wisconsin Electric Power Company (Wisconsin Electric) tendered for filing changes to the Wholesale Distribution Delivery Service Agreement, Rate Schedule FERC No. 97, between Wisconsin Electric and Wisconsin Public Power, Inc.

Wisconsin Electric respectfully requests an effective date of February 1, 2002.

Comment Date: June 12, 2002.

8. Entergy Services, Inc.

[Docket No. ER02-1888-000] Take notice that on May 22, 2002, Entergy Services, Inc., on behalf of Entergy Gulf States, Inc. (Entergy Gulf States), tendered for filing six copies of a Notice of Termination of the Interconnection and Operating Agreement and Generator Imbalance Agreement between Entergy Gulf States and Hartburg Power, LP.

Comment Date: June 12, 2002.

9. Midwest Independent Transmission System Operator, Inc.

[Docket No. ER02-1889-000]

Take notice that on May 23, 2002, the Midwest Independent Transmission System Operator, Inc. (Midwest ISO), the Administrator of the Mid-Continent Area Power Pool (MAPP) Tariff filed with the Federal Energy Regulatory Commission (Commission) pursuant to section 205 of the Federal Power Act and Section 35.13 of the Commission's regulations, 18 CFR 35.13 (2001), a Long-Term Firm Service Agreement for transmission service for Utilities Plus under MAPP Schedule F.

A copy of this filing was sent to Utilities Plus.

Comment Date: June 13, 2002.

10. Edison Source

[Docket No. ER02-1891-000]

Take notice that on May 23, 2002, Edison Source filed to cancel its Market-Based Rate Tariff.

Comment Date: June 13, 2002.

11. Midwest Independent Transmission System Operator, Inc.

[Docket No. ER02-1892-000]

Take notice that on May 23, 2002, the Midwest Independent Transmission System Operator, Inc. (Midwest ISO), the Administrator of the Mid-Continent Area Power Pool (MAPP) Tariff filed with the Federal Energy Regulatory Commission (Commission) pursuant to section 205 of the Federal Power Act and Section 35.13 of the Commission's regulations, 18 CFR 35.13 (2001), a Long-Term Firm Service Agreement No. 276 for transmission service for OTP Wholesale Marketing under MAP Schedule F.

A copy of this filing was sent to OTP Wholesale Marketing.

Comment Date: June 13, 2002.

12. Midwest Independent Transmission System Operator, Inc.

[Docket No. ER02-1893-000]

Take notice that on May 23, 2002, the Midwest Independent Transmission System Operator, Inc. (Midwest ISO), the Administrator of the Mid-Continent Area Power Pool (MAPP) Tariff filed with the Federal Energy Regulatory Commission (Commission) pursuant to section 205 of the Federal Power Act and Section 35.13 of the Commission's regulations, 18 CFR 35.13 (2001), a Long-Term Firm Service Agreement No. 277 for transmission service for OTP Wholesale Marketing under MAP Schedule F.

A copy of this filing was sent to OTP Wholesale Marketing.

Comment Date: June 13, 2002.

Standard Paragraph

E. Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Magalie R. Salas,
Secretary.

[FR Doc. 02-14413 Filed 6-7-02; 8:45 am]

BILLING CODE 6717-01-P